DEPARTMENT OF HEALTH AND HUMAN SERVICES

National Institutes of Health

National Center for Advancing Translational Sciences; Notice of Meeting

Pursuant to section 1009 of the Federal Advisory Committee Act, as amended, notice is hereby given of a meeting of the National Center for Advancing Translational Sciences Advisory Council.

The Open Session may be accessed by the public from the NIH Videocast at the following link: https://videocast.nih.gov. Individuals who plan to attend and need special assistance, such as sign language interpretation or other reasonable accommodations, should notify the Contact Person listed below in advance of the meeting.

Name of Committee: National Center for Advancing Translational Sciences Advisory Council.

Date: January 29, 2026.

Time: 1:00 p.m. to 5:00 p.m.

Agenda: Report of NIH Director, Center Director, Program Updates, and Concept Clearance.

Address: National Center for Advancing Translational Sciences, National Institutes of Health, NCI Shady Grove, Room 1E32/1E34, 9609 Medical Center Drive, Rockville, MD 20892.

Meeting Format: Virtual Meeting.

Contact Person: Anna L. Ramsey-Ewing, Ph.D., Executive Secretary, National Center for Advancing Translational Sciences, National Institutes of Health, 9609 Medical Center Drive, Room 1E454, Rockville, MD 20892, (301) 435-0809, anna.ramseyewing@nih.gov.

(Catalogue of Federal Domestic Assistance Program Nos. 93.859, Pharmacology, Physiology, and Biological Chemistry Research; 93.350, B—Cooperative Agreements; 93.859, Biomedical Research and Research Training, National Institutes of Health, HHS)

Dated: December 11, 2025.
Bruce A. George,
Program Analyst, Office of Federal Advisory Committee Policy.

[FR Doc. 2025-22799 Filed 12-12-25; 8:45 am]

BILLING CODE 4140-01-P